INTERNATIONAL TRADE COMMISSION

[Investigation No. 337-TA-1230]

Certain Electric Shavers and Components and Accessories Thereof; Notice of a Commission Determination Not To Review an Initial Determination Granting a Motion for Benepuri LLC To Intervene and To Terminate Respondent Rayenbarny Inc. for Good Cause

AGENCY: U.S. International Trade Commission.

ACTION: Notice.

SUMMARY: Notice is hereby given that the U.S. International Trade Commission (“Commission”) has determined not to review an initial determination (“ID”) (Order No. 4) of the presiding administrative law judge (“ALJ”), granting a motion by Benepuri LLC of Menands, New York (“Benepuri”) to intervene in the above-referenced investigation and to terminate the investigation as to respondent Rayenbarny Inc. of New York, New York (“Rayenbarny”).

FOR FURTHER INFORMATION CONTACT: Panyin A. Hughes, Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On November 18, 2020, the Commission instituted this investigation based on a complaint filed by Skull Shaver, LLC of Moorestown, New Jersey (“Skull Shaver”). 85 FR 73510-11 (Nov. 18, 2020). The complaint alleged violations of section 337 based on the importation into the United States, the sale for importation, or the sale within the United States after importation of certain electric shavers and components and accessories thereof by reason of infringement of certain claims of U.S. Patent Nos. 8,726,528 and D672,504. Id. The Commission's notice of investigation named the following eleven entities as respondents: Rayenbarny; Bald Shaver Inc. of Toronto, Canada; Suzhou Kaidiya Garments Trading Co., Ltd. d.b.a. “Digimator” of Suzhou, China; Shenzhen Aiweilai Trading Co., Ltd. d.b.a. “Teamyo” of Shenzhen, China; Wenzhou Wending Electric Appliance Co., Ltd. of Yueqing City, China; Shenzhen Nukun Technology Co., Ltd. d.b.a. “OriHea” of Shenzhen, China; Yiwu Xingye Network Technology Co. Ltd. d.b.a. “Roziapro” of Yiwu, China; Magicfly LLC of Hong Kong; Yiwu City Qiaoyu Trading Co., Ltd. of Yiwu, China; Shenzhen Wantong Information Technology Co., Ltd. d.b.a. “WTONG” of Shenzhen, China; and Shenzhen Junmao International Technology Co., Ltd. d.b.a. “Homeas” of Shenzhen, China. The notice of investigation also named the Office of Unfair Import Investigations (“OUII”) as a party. Id.

On November 18, 2020, Benepuri filed a motion to intervene in this investigation, asserting that it has an interest in the investigation because one of its products has been accused and that no other named respondent has an interest in defending Benepuri's product. Benepuri also moved for termination of Rayenbarny as a respondent, stating that the accused product attributed to Rayenbarny, the AsaVea electric shaver, is actually Benepuri's product. Attached to Benepuri's motion is a declaration from the President of Rayenbarny, stating that “Rayenbarny Inc. has not imported into the United States, sold for importation into the United States, or sold in the United States after importation an electric shaver” and that “[t]o the best of my knowledge, the AsaVea electric shaver that is identified in the Complaint in the above referenced Investigation is a product from Benepuri LLC.” Benepuri Motion, Exhibit B. On November 23, 2020, Skull Shaver and OUII filed responses in support of Benepuri's intervention and Rayenbarny's termination.

On November 30, 2020, the ALJ issued the subject ID granting the motion. Regarding Benepuri's intervention, the ID finds that the motion complies with the requirements of Commission Rule 210.19. 19 CFR 210.19. Specifically, the ID finds that (1) “Benepuri's motion to intervene was timely filed because it was made on the same day as the November 18, 2020 institution of this Investigation”; (2) “Benepuri has demonstrated a substantial interest in the Investigation,” particularly in connection with the accused AsaVea electric shaver; and (3) “Benepuri's interests are not represented by existing parties.” ID at 5. Thus, the ID finds that “Benepuri's intervention in this Investigation is appropriate, and Benepuri should be accorded status as a respondent.” Id. at 5-6 (citing Network Interface Cards, Inv. No. 337-TA-455, Comm'n Op. at 10 (July 17, 2001) (a party seeking to intervene should be accorded respondent status when it could itself be a respondent in the investigation, but has been omitted by the complainant for some reason)).

The ID also finds that good cause exists to terminate the investigation as to Rayenbarny under Commission Rule 210.21(a), which provides that “[a]ny party may move at any time prior to the issuance of an initial determination on violation of section 337 of the Tariff Act of 1930 to terminate an investigation in whole or in part as to any or all respondents, on the basis of . . . good cause . . . .” 19 CFR 210.21(a). The ID notes that Rayenbarny's declaration states that it “has not imported into the United States, sold for importation into the United States, or sold in the United States after importation an electric shaver.” In addition, consistent with Commission Rule 210.21(a)(1), Rayenbarny states that “there are no agreements, written or oral, express or implied, between any party or Benepuri concerning the subject matter of the Investigation.” The ID further notes that “Rayenbarny's termination from this Investigation is in the public interest and will conserve public and private resources.” ID at 6.

No one petitioned for review of the subject ID. The Commission has determined not to review the subject ID. Benepuri is hereby named a respondent in this investigation and Rayenbarny is hereby terminated from this investigation.

The Commission vote for this determination took place on December 15, 2020.

The authority for the Commission's determination is contained in section 337 of the Tariff Act of 1930, as amended (19 U.S.C. 1337), and in Part 210 of the Commission's Rules of Practice and Procedure (19 CFR part 210).

By order of the Commission.
Issued: December 15, 2020.
Lisa Barton,
Secretary to the Commission.

[FR Doc. 2020-28038 Filed 12-17-20; 8:45 am]

BILLING CODE 7020-02-P